DEPARTMENT OF ENERGY

Federal Energy Regulatory Commission

[Docket No. RP05-234-000]

Marathon Oil Company, Complainant v. Trailblazer Pipeline Company, Respondent; Notice of Complaint

March 24, 2005.

Take notice that on March 22, 2005, Marathon Oil Company (Marathon) filed a formal complaint against Trailblazer Pipeline Company (Trailblazer) pursuant to section 206 of the Commission's Rules and Regulations alleging that Trailblazer violated the Commission's Negotiated Rate Policy, the Natural Gas Act, the Commission's Part 284 Regulations and the Commission's Order authorizing Trailblazer to charge negotiated rates, as well as section 38 of the General Terms and Conditions of Trailblazer's tariff.

Marathon alleges that Trailblazer's rates under FTSX Agreement Nos. 927144 and 919467 are unlawful in that they are the product of the exercise of market power by Trailblazer and are unduly discriminatory under section 4 of the Natural Gas Act. Marathon alleges that Trailblazer failed to offer negotiated rate shippers the cost based recourse rate for its Expansion 2002 FTS service and is charging negotiated rate shippers vastly different rates for the same service.

Marathon requests that the Commission order Trailblazer to disgorge and return to Marathon all revenues collected in excess of the applicable cost-of-service rates under FTSX Agreement Nos. 927144 and 919467. In addition, Marathon requests that the Commission rule that Trailblazer may not charge Marathon rates higher than the Commission-approved recourse rates for the remaining terms of these agreements.

Marathon Oil Company certifies that copies of the Complaint were served on the contacts for Trailblazer Pipeline Company as listed on the Commission's list of Corporate Officials.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on April 13, 2005.

Linda Mitry,
Deputy Secretary.

[FR Doc. E5-1432 Filed 3-30-05; 8:45 am]

BILLING CODE 6717-01-P